DEPARTMENT OF TRANSPORTATION

Federal Aviation Administration

14 CFR Part 39

[Docket No. 2001-NM-388-AD; Amendment 39-12599; AD 2002-01-08]

RIN 2120-AA64

Airworthiness Directives; Israel Aircraft Industries, Ltd., Model Galaxy Airplanes

AGENCY: Federal Aviation Administration, DOT.

ACTION: Final rule; request for comments.

SUMMARY: This amendment adopts a new airworthiness directive (AD) that is applicable to certain Israel Aircraft Industries, Ltd., Model Galaxy airplanes. This action requires disabling the baggage compartment heating blanket system. This action is necessary to prevent a short circuit between the baggage compartment heating blankets and the electrical connectors, which could result in fire and smoke in the baggage compartment. This action is intended to address the identified unsafe condition.

DATES: Effective January 30, 2002.

Comments for inclusion in the Rules Docket must be received on or before February 14, 2002.

ADDRESSES: Submit comments in triplicate to the Federal Aviation Administration (FAA), Transport Airplane Directorate, ANM-114, Attention: Rules Docket No. 2001-NM-388-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-iarcomment@faa.gov. Comments sent via fax or the Internet must contain “Docket No. 2001-NM-388-AD” in the subject line and need not be submitted in triplicate. Comments sent via the Internet as attached electronic files must be formatted in Microsoft Word 97 for Windows or ASCII text.

The service information referenced in this AD may be obtained from Galaxy Aerospace Corporation, One Galaxy Way, Fort Worth Alliance Airport, Fort Worth, Texas 76177. This information may be examined at the FAA, Transport Airplane Directorate, 1601 Lind Avenue, SW., Renton, Washington.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: The Civil Aviation Administration of Israel (CAAI), which is the airworthiness authority for Israel, recently notified the FAA that an unsafe condition may exist on certain Israel Aircraft Industries, Ltd., Model Galaxy airplanes. The CAAI advises that the excessive length of the electrical connector backshell hardware and the proximity of the connectors to the baggage compartment heating blankets could result in chafing. This condition, if not corrected, could result in short circuiting between the baggage compartment heating blankets and the electrical connectors, and consequent fire and smoke in the baggage compartment.

Explanation of Certain Service Information

The manufacturer has issued Galaxy (Israel Aircraft Industries) Alert Service Bulletin GALAXY-25A-109, dated December 18, 2001, which describes procedures for disabling the heating blankets by opening five circuit breakers and installing tie wrap around their necks, and labeling the switch “INOP.” The CAAI has approved this alert service bulletin and issued Israeli emergency airworthiness directive 25-01-12-17, dated December 18, 2001, as an interim action to address the continued airworthiness of these airplanes in Israel. The actions specified by the alert service bulletin parallel the requirements of the Israeli airworthiness directive.

FAA's Conclusions

This airplane model is manufactured in Israel and is type-certificated for operation in the United States under the provisions of section 21.29 of the Federal Aviation Regulations (14 CFR 21.29) and the applicable bilateral airworthiness agreement. Pursuant to this bilateral airworthiness agreement, the CAAI has kept the FAA informed of the situation described above. The FAA has examined the findings of the CAAI, reviewed all available information, and determined that AD action is necessary for products of this type design that are certificated for operation in the United States.

Explanation of Requirements of Rule

Since an unsafe condition has been identified that is likely to exist or develop on other airplanes of the same type design registered in the United States, this AD is being issued to prevent a short circuit between the baggage compartment heating blankets and the electrical connectors, which could result in fire and smoke in the compartment. This AD requires disabling the baggage compartment heating blanket system. In addition, as recommended by the CAAI, this AD prohibits issuance of a special flight permit to operate the airplane to a location where the requirements of this AD can be accomplished.

Difference Between This AD and Israeli Airworthiness Directive/Service Bulletin

The Israeli emergency airworthiness directive mandates the immediate disabling of the heating blanket system. This AD allows operators 3 days to complete the required actions. The FAA recognizes the severity of the unsafe condition presented by this situation, but finds a 3-day compliance time appropriate in consideration of the safety implications, the average utilization rate of the affected fleet, and the practical aspects of planning and scheduling maintenance to accomplish the required actions on the fleet. The FAA has considered all these factors and determined that a 3-day compliance time is practicable and will not adversely affect the continued operational safety of the fleet.

Interim Action

This is considered to be interim action. The manufacturer has advised that it is currently developing procedures for inspecting the heating blankets and modifying the electrical connectors. These actions are intended to enable reactivation of the heating blanket system and positively address the unsafe condition addressed by this AD. Once these actions are developed, approved, and available, the FAA may consider additional rulemaking.

Determination of Rule's Effective Date

Since a situation exists that requires the immediate adoption of this regulation, it is found that notice and opportunity for prior public comment hereon are impracticable, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket 2001-NM-388-AD.” The postcard will be date-stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2002-01-08 Israel Aircraft Industries, Ltd.: Amendment 39-12599. Docket 2001-NM-388-AD.

Applicability: Model Galaxy airplanes, certificated in any category, serial numbers 004 through 051 inclusive.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (b) of this AD. The request should include an assessment of the effect of the modification, alteration, or repair on the unsafe condition addressed by this AD; and, if the unsafe condition has not been eliminated, the request should include specific proposed actions to address it.

Compliance: Required as indicated, unless accomplished previously.

To prevent a short circuit between the baggage compartment heating blankets and the electrical connectors, which could result in fire and smoke in the baggage compartment, accomplish the following:

Disabling the Baggage Compartment Heating Blanket System

(a) Within 3 days after the effective date of this AD, disable the baggage compartment heating blanket system by performing the actions in the remaining subparagraphs of paragraph (a) of this AD.

(1) Gain access to the left and right aft contactor boxes via access panels 151CL on the central fuselage and 162BR on the aft fuselage.

Note 2: The exact location of the access panels is identified in the GALAXY Maintenance Manual, Chapter 12-00-00.

(2) Open circuit breakers 17H and 19H (left box) and 16H, 18H, and 372H (right box). Secure the circuit breakers in the open position by installing tie wraps around their necks.

(3) Verify that the HEAT—BAGGAGE COMPRT switch on the right side of the overhead panel does not activate the blankets (ammeter check).

(4) Label the switch “INOP.”

Note 3: Disabling the baggage compartment heating blanket system in accordance with Galaxy (Israel Aircraft Industries) Alert Service Bulletin GALAXY-25A-109, dated December 18, 2001, is acceptable for compliance with the requirements of this AD.

Alternative Methods of Compliance

(b) An alternative method of compliance or adjustment of the compliance time that provides an acceptable level of safety may be used if approved by the Manager, International Branch, ANM-116, Transport Airplane Directorate, FAA. Operators shall submit their requests through an appropriate FAA Principal Maintenance Inspector, who may add comments and then send it to the Manager, International Branch, ANM-116.

Note 4: Information concerning the existence of approved alternative methods of compliance with this AD, if any, may be obtained from the International Branch, ANM-116.

Special Flight Permit Prohibition

(c) Special flight permits may NOT be issued in accordance with sections 21.197 and 21.199 of the Federal Aviation Regulations (14 CFR 21.197 and 21.199) to operate the airplane to a location where the requirements of this AD can be accomplished.

Note 5: The subject of this AD is addressed in Israeli emergency airworthiness directive 25-01-12-17, dated December 18, 2001.

Effective Date

(d) This amendment becomes effective on January 30, 2002.

Issued in Renton, Washington, on January 7, 2002.
Vi L. Lipski,
Manager, Transport Airplane Directorate, Aircraft Certification Service.

[FR Doc. 02-799 Filed 1-14-02; 8:45 am]

BILLING CODE 4910-13-U